DEPARTMENT OF THE INTERIOR

Bureau of Indian Affairs

[201A2100DD/AAKC001030/A0A501010.999900253G]

Indian Gaming; Tribal-State Class III Gaming Compact Taking Effect in the State of Oklahoma

AGENCY: Bureau of Indian Affairs, Interior.

ACTION: Notice.

SUMMARY: This notice announces that the Model Tribal Gaming Compact between the United Keetoowah Band of Cherokee Indians in Oklahoma and the State of Oklahoma (Compact), and the Extension of State-Tribal Gaming Compact between the State Of Oklahoma and the United Keetoowah Band of Cherokee Indians in Oklahoma (Extension), are taking effect.

DATES: The Compact and Extension take effect on June 17, 2020.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts are subject to review and approval by the Secretary. The Secretary took no action on the Model Tribal Gaming Compact between the United Keetoowah Band of Cherokee Indians in Oklahoma and the State of Oklahoma, or the Extension of State-Tribal Gaming Compact between the State of Oklahoma and the United Keetoowah Band of Cherokee Indians in Oklahoma within 45 days of their submission. Therefore, the Compact and the Extension are considered to have been approved, but only to the extent they are consistent with IGRA. See 25 U.S.C. 2710(d)(8)(C).

Tara Sweeney,
Assistant Secretary—Indian Affairs.

[FR Doc. 2020-13062 Filed 6-16-20; 8:45 am]

BILLING CODE 4337-15-P